DEPARTMENT OF THE INTERIOR

Bureau of Land Management

[LLNM004200 L13200000.GA0000]

Notice of Intent To Prepare a Resource Management Plan Amendment and Associated Environmental Assessment Addressing Four Federal Coal Lease Applications in Haskell and LeFlore Counties, OK; Correction

AGENCY: Bureau of Land Management, Interior.

ACTION: Notice of Correction.

SUMMARY: The Bureau of Land Management published a Notice of Intent in the Federal Register on June 24, 2011 (76 FR 37145), concerning preparation of the Oklahoma Resource Management Plan Amendment and associated Environmental Assessment addressing Four Federal Coal Lease Applications in Haskell and LeFlore Counties, Oklahoma. The notice omitted a legal land description for a portion of the scoping area.

FOR FURTHER INFORMATION CONTACT: Laurence Levesque or Richard Wymer, Co-Team Leaders, BLM, Oklahoma Field Office, 7906 E 33rd Street, Suite 101, Tulsa, Oklahoma 74145-1352, phone (918) 621-4100.

Correction:

This action corrects the land description published on June 24, 2011 (76 FR 37145) by adding the following information:

On page 37146, column 1, after line 5, insert the following land description:

“T. 9 N., R. 21 E.,

Sec. 5, Lots 2, 3 & 4; S½ NW¼, N½ SW¼, and NW¼ SW¼ NE¼.

T. 10 N., R. 21 E.,

Sec. 32, S½, and S½ NW¼.

The area described contains 970.88 acres, according to the official plat of the survey of the said lands, on file with the BLM.”

Jesse Juen,
Acting State Director.

Authority: 40 CFR 1501.7; 43 CFR 1610.2.

[FR Doc. 2011-25051 Filed 9-28-11; 8:45 am]

BILLING CODE 4313-AW-P